DEPARTMENT OF THE TREASURY

Submission for OMB review; comment request

April 25, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 1, 2001 to be assured of consideration.

Internal Revenue Service (IRS)

OMB Number: 1545-0927.

Form Number: IRS Form 8390.

Type of Review: Extension.

Title: Information Return for Determination of Life Insurance Company Earnings Rate Under Section 809.

Description: Life insurance companies are required to provide data so the Secretary of the Treasury can compute the: (1) Stock earnings rate of the 50 largest stock companies; and (2) average mutual earnings rate. These factors are used to compute the differential earnings rate which will determine the tax liability for mutual life insurance companies.

Respondents: Business or other for-profit.

Estimated Number of Respondents/Recordkeepers: 150.

Estimated Burden Hours Per Respondent/Recordkeeper
Recordkeeping | 55 hr., 57 min.
Learning about the law or the form | 2 hr., 34 min.
Preparing and sending the form to the IRS | 3 hr., 36 min.

Frequency of Response: Annually.

Estimated Total Reporting/Recordkeeping Burden: 9,323 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Mary A. Able,
Departmental Reports, Management Officer.

[FR Doc. 01-10885 Filed 5-1-01; 8:45 am]

BILLING CODE 4830-01-P